FEDERAL COMMUNICATIONS COMMISSION

Notice of Public Information Collection(s) Being Submitted to OMB for Review and Approval

April 24, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 1, 2000. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0055.

Title: Application for Cable Television Relay Service Station Authorization.

Form Number: FCC 327.

Type of Review: Extension of a currently approved collection.

Respondents: Business or other for-profit entities; Individuals or households; State, Local, or Tribal Governments.

Number of Respondents: 973.

Estimate Time Per Response: 3.166 hours.

Frequency of Response: On occasion reporting requirement.

Total Annual Burden: 3,081 hours.

Total Annual Costs: $184,000.

Needs and Uses: Cable television system owners or operators and MMDS operators use FCC Form 327 to apply for cable television relay service station authorizations (CARS). The Commission uses the information to determine whether applicants meet basic statutory requirements and are qualified to become or continue as Commission licensees.

OMB Control Number: 3060-0568.

Title: Commercial Leased Access Rates, Terms, and Conditions.

Form Number: N/A.

Type of Review: Extension of a currently approved collection.

Respondents: Business or other for-profit entities.

Number of Respondents: 6,330.

Estimate Time Per Response: 2 minutes to 10 hours.

Frequency of Response: On occasion reporting requirement; Third party disclosure.

Total Annual Burden: 94,171 hours.

Total Annual Costs: $74,000.

Needs and Uses: The Commission and prospective leased access programmers use this information to verify rate calculations for leased access channels and to eliminate uncertainty in negotiations for leased commercial access. The Commission's leased access requirements are designed to promote diversity of programming and competition in programming delivery as required by section 612 of the Cable Television Consumer Protection and Competition Act of 1992.

Federal Communications Commission.
Magalie Roman Salas,
Secretary.

[FR Doc. 00-10842 Filed 5-1-00; 8:45 am]

BILLING CODE 6712-01-P